SMALL BUSINESS ADMINISTRATION

[Disaster Declaration #13273 and #13274]

Mississippi Disaster Number MS-00059

AGENCY: U.S. Small Business Administration.

ACTION: Amendment 3.

SUMMARY: This is an amendment of the Presidential declaration of a major disaster for the State of Mississippi (FEMA-4081-DR), dated 09/01/2012.

Incident: Hurricane Isaac.

Incident Period: 08/26/2012 Through 09/11/2012.

Effective Date: 09/28/2012.

Physical Loan Application Deadline Date: 10/31/2012.

EIDL Loan Application Deadline Date: 05/30/2013.

ADDRESSES: Submit completed loan applications to:

U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Mississippi, dated 09/01/2012 is hereby amended to include the following areas as adversely affected by the disaster:

Primary Counties: (Physical Damage and Economic Injury Loans): Copiah, Franklin, Jefferson, Jones, Lamar

Contiguous Counties: (Economic Injury Loans Only):

Mississippi: Smith

All other information in the original declaration remains unchanged.

(Catalog of Federal Domestic Assistance Numbers 59002 and 59008)

James E. Rivera,
Associate Administrator, for Disaster Assistance.

[FR Doc. 2012-24849 Filed 10-9-12; 8:45 am]

BILLING CODE 8025-01-P